COMMITTEE FOR PURCHASE FROM PEOPLE WHO ARE BLIND OR SEVERELY DISABLED

Procurement List; Withdrawal of Proposed Addition

AGENCY: Committee for Purchase From People Who Are Blind or Severely Disabled.

ACTION: Withdrawal of proposed addition of products and service to procurement list.

SUMMARY: This notice withdraws previous published notices of proposed addition of products and a service from further consideration for addition to the Procurement List.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On October 17, 2003 and November 7, 2003 (68 FR 59775 and 68 FR 63057), the Committee for Purchase From People Who Are Blind or Severely Disabled published notice of proposed addition to the Procurement List of the following products and service. These notices were published pursuant to 41 U.S.C. 47(a)(2) and 41 CFR 51-2.3 for the purpose of providing interested persons an opportunity to submit comments on the proposed actions. The Committee is withdrawing from further consideration and comment the addition of the products and service.

Products

Product/NSN: Jersey, Flight Deck, Crewman's (The remaining 50% of the Defense Supply Center Philadelphia's Requirement).

8415-00-914-0312

8415-00-914-0313

8415-00-914-0314

8415-00-914-0315

8415-00-914-0316

8415-00-914-0317

8415-00-914-0318

8415-00-914-0319

8415-00-914-0321

8415-00-914-0322

8415-00-914-0323

8415-00-914-0324

8415-00-914-0325

8415-00-914-0326

8415-00-914-0327

8415-00-914-0328

8415-00-914-0329

8415-00-914-0331

8415-00-914-0333

8415-00-914-0334

8415-00-914-0335

8415-00-914-0336

8415-00-914-0337

8415-00-914-0338

8415-00-914-0339

8415-00-914-0340

8415-00-914-4143

8415-00-914-9481

NPA: Bestwork Industries for the Blind, Inc., Runnemede, New Jersey.

NPA: El Paso Lighthouse for the Blind, El Paso, Texas.

NPA: Elizabeth Pierce Olmsted, M.D. Center for the Visually Impaired, Buffalo, New York.

NPA: Westmoreland County Blind Association, Greensburg, Pennsylvania.

Contract Activity: Defense Supply Center Philadelphia, Philadelphia, Pennsylvania.

Service

Service Type/Location: Custodial Services, Naval Exchange, National Naval Medical Center, Bethesda, Maryland.

NPA: Opportunities, Inc., Alexandria, Virginia.

Contract Activity: Navy Exchange Service Command (NEXCOM), Virginia Beach, Virginia. The above products and service are being withdrawn from further consideration for proposed addition. Consequently, these products and service will not be added to the Procurement List at this time.

Sheryl D. Kennerly,
Director, Information Management.

[FR Doc. 04-1031 Filed 1-15-04; 8:45 am]

BILLING CODE 6353-01-P